DEPARTMENT OF DEFENSE

Office of the Secretary

[Docket ID: DoD-2023-OS-0039]

Submission for OMB Review; Comment Request

AGENCY: Office of the Under Secretary of Defense for Acquisition and Sustainment (OUSD(A&S)), Department of Defense (DoD).

ACTION: 30-Day information collection notice.

SUMMARY: The DoD has submitted to the Office of Management and Budget (OMB) for clearance the following proposal for collection of information under the provisions of the Paperwork Reduction Act.

DATES: Consideration will be given to all comments received by October 23, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Request for Approval for Qualification Training and Approval of Contractor Flight Crewmember; DD Forms 1821, 2627, 2628, 3062; OMB Control Number 0704-0347.

Type of Request: Revision.

[DD Form 1821]

Number of Respondents: 100.

Number of Responses per Respondent: 5.

Number of Total Annual Responses: 500.

Response Time: 30 minutes.

Respondent Burden Hours: 250 hours.

[DD Form 2627]

Number of Respondents: 100.

Number of Responses per Respondent: 5.

Number of Total Annual Responses: 500.

Response Time: 30 minutes.

Respondent Burden Hours: 250 hours.

[DD Form 2628]

Number of Respondents: 100.

Number of Responses per Respondent: 5.

Number of Total Annual Responses: 500.

Response Time: 30 minutes.

Respondent Burden Hours: 250 hours.

[DD Form 3062]

Number of Respondents: 100.

Number of Responses per Respondent: 52.

Number of Total Annual Responses: 5,200.

Response Time: 15 minutes.

Respondent Burden Hours: 1,300 hours.

Total Number of Respondents: 200.

Total Responses per Respondent: 33.5.

Total Annual Responses: 6,700.

Total Average Burden per Response: 18.36 minutes.

Total Annual Burden Hours: 2,050.

Needs and Uses: The information collection requirement supported by these DD Forms supports contractor requirements to have government approval of contract flight crewmembers and contract flights as specified in Defense Contract Management Command Instruction (DCMA INST) 8210.1, Contractor's Ground and Flight Operations. The contractor provides information on contractor personnel to the government. The government approves the contractor's request for aircrew training and, eventually, approval for contractor personnel to operate and fly government aircraft. The government also approves all flights under contract.

The DD Form 2627 is used by contractors to request qualification training for contractor crewmembers. The contractor provides a personal history, verifies the crewmember's records, and requests government approval for training in a particular type of government aircraft. The 2627 and supporting documentation can be provided in hard or soft copy.

The DD Form 1821 is used by contractors to provide a succinct summary of a crewmember's flight history. This form is submitted along with DD Form 2627 as part of the supporting documentation for the request for qualification training.

The DD Form 2628 is used by contractors to request aircrew qualification for contractor crewmembers. The contractor verifies the crewmember's training completion and requests government approval for specific aircrew qualification in a particular type of government aircraft. The 2628 and supporting documentation can be provided in hard or soft copy.

The DD Form 3062 is used by contractors to request approval of flights under contract. The 3062 can be provided in hard or soft copy. Without the approval from the government, the contractor cannot fly under the liability coverage provided by DFARS 252.228-7001, Ground and Flight Risk.

Affected Public: Individuals or households.

Frequency: DD Forms 1821, 2627, and 2628 are completed once to verify a contractor's aircrew qualification. DD Form 3062 is completed as needed to request approval of flights under contract.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 18, 2023.
Aaron T. Siegel,
Alternate OSD Federal Register Liaison Officer, Department of Defense.

[FR Doc. 2023-20606 Filed 9-21-23; 8:45 am]

BILLING CODE 5001-06-P